NUCLEAR REGULATORY COMMISSION

[NRC-2015-0252 and NRC-2016-0121]

Program-Specific Guidance About Licenses Authorizing Distribution to General Licensees and Program-Specific Guidance About Special Nuclear Material of Less Than Critical Mass Licenses

AGENCY: Nuclear Regulatory Commission.

ACTION: NUREG; issuance.

SUMMARY: The U.S. Nuclear Regulatory Commission (NRC) has issued Revision 1 to NUREG-1556, Volume 16, “Consolidated Guidance About Materials Licenses: Program-Specific Guidance About Licenses Authorizing Distribution to General Licensees,” and Volume 17, “Consolidated Guidance About Materials Licenses: Program-Specific Guidance About Special Nuclear Material of Less Than Critical Mass Licenses.” NUREG-1556 Volumes 16 and 17 have been revised to include information on updated regulatory requirements, safety culture, security of radioactive materials, protection of sensitive information, and changes in regulatory policies and practices. These volumes are intended for use by applicants, licensees, and the NRC staff.

DATES: NUREG 1556, Volumes 16 and 17, Revision 1, were published in July 2018.

ADDRESSES: Please refer to Docket ID NRC 2015-0252 (NUREG-1556, Vol. 16, Rev. 1), and NRC-2016-0121 (NUREG-1556, Vol. 17, Rev. 1), when contacting the NRC about the availability of information regarding these documents. You may obtain publicly-available information related to these documents using any of the following methods:

• Federal Rulemaking Website: Go to http://www.regulations.gov and search for Docket ID NRC-2015-0252 or NRC-2016-0121. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. NUREG-1556, Volumes 16 and 17, Revision 1, are located at ADAMS Accession Numbers ML18180A187 and ML18190A207, respectively. These documents are also available on the NRC's public website at http://www.nrc.gov/reading-rm/doc-collections/nuregs/staff/sr1556/ under “Consolidated Guidance About Materials Licenses (NUREG-1556).”

• NRC's PDR: You may examine and purchase copies of public documents at the NRC's PDR, Room O1-F21, One White Flint North, 11555 Rockville Pike, Rockville, Maryland 20852.

FOR FURTHER INFORMATION CONTACT: Anthony McMurtray, Office of Nuclear Material Safety and Safeguards; U.S. Nuclear Regulatory Commission, Washington, DC 20555-0001; telephone: 301-415-2746; email: Anthony.McMurtray@nrc.gov.

SUPPLEMENTARY INFORMATION:

I. Discussion

The NRC issued revisions to NUREG-1556, Volumes 16 and 17, to provide guidance to existing materials licensees covered under these types of licenses and to applicants preparing an application for one of these types of materials licenses. These NUREG volumes also provide the NRC staff with criteria for evaluating these types of license applications. The purpose of this notice is to notify the public that the NUREG-1556 volumes listed in this Federal Register notice were issued as final reports.

II. Additional Information

The NRC published notices of the availability of the draft report for comment versions of NUREG-1556, Volume 16, Revision 1 in the Federal Register on June 23, 2016 (81 FR 40928) and Volume 17, Revision 1 in the Federal Register on January 26, 2017 (82 FR 8547). Both of these volumes were published for a public comment period that was at least 32 days. The public comment period closed for Volume 16 on July 25, 2016 and for Volume 17 on March 3, 2017. Public comments and the NRC staff responses to the public comments for NUREG-1556, Volume 16, Revision 1 are available under ADAMS Accession No. ML18136A728. Public comments and the NRC staff responses to the public comments for NUREG-1556, Volume 17, Revision 1 are available under ADAMS Accession No. ML18113A291.

III. Congressional Review Act

These NUREG volumes are rules as defined in the Congressional Review Act (5 U.S.C. 801-808). However, the Office of Management and Budget has not found these NUREG revisions to be major rules as defined in the Congressional Review Act.

Dated at Rockville, Maryland, on July 30, 2018.
For the Nuclear Regulatory Commission.
Daniel S. Collins,
Director, Division of Materials Safety, Security, State and Tribal Programs, Office of Nuclear Material Safety and Safeguards.

[FR Doc. 2018-16619 Filed 8-2-18; 8:45 am]

BILLING CODE 7590-01-P